DEPARTMENT OF LABOR

Employment and Training Administration

[TA-W-71,253]

Integrated Silicon Solution, Inc. (ISSI); San Jose, CA; Notice of Termination of Investigation

Pursuant to Section 221 of the Trade Act of 1974, as amended, an investigation was initiated on June 17, 2009, in response to a petition filed on behalf of workers at Integrated Silicon Solution, Inc., San Jose, California.

The petitioner has requested that the petition be withdrawn. Consequently, the investigation has been terminated.

Signed at Washington, DC, this 3rd day of February 2010.
Elliott S. Kushner,
Certifying Officer, Division of Trade Adjustment Assistance.

[FR Doc. 2010-5348 Filed 3-11-10; 8:45 am]

BILLING CODE 4510-FN-P